DEPARTMENT OF ENERGY

Federal Energy Regulatory Commission

[Docket No. CP00-438-000]

Columbia Gas Transmission Corporation; Filing

August 18, 2000.

Take notice that on August 14, 2000, Columbia Gas Transmission Corporation (Columbia) filed an application requesting permission under NGA Section 7(b) to abandon by sale 3.54 BCF of base gas located in Columbia's Storage system. The application may be viewed on the web at www.ferc.fed.us/online/rims.htm. Call (202) 208-2222 for assistance.

It is stated that operational efficiencies within various Storage Fields have reduced Columbia's need to maintain the historic levels of base gas. The disposition of proceeds from the proposed sale of the base gas will be made pursuant to Section C, of Article IV, of Stipulation II of the Settlement in Docket No. RP95-408 Columbia Gas Transmission Corp., 79 FERC Paragraph 61,044 (1997). This settlement defines future additional sales of base gas no longer needed by Columbia as a result of more efficient operation of its storage fields. Columbia will comply with the annual reporting requirements provided for in Section D of Article IV.

Any person desiring to be heard or to protest said filing should file a motion to intervene or protest with the Federal Energy Regulatory Commission, 888 First Street, NE., Washington, DC 20426, in accordance with Rules 211 or 214 of the Commission's Rules of Practice and Procedure (18 CFR Section 385.211 or Section 385.214). All such motions to intervene or protest should be filed on or before September 8, 2000. Protests will be considered by the Commission in determining the appropriate action to be taken but will not serve to make protestants parties to the proceeding. Any person wishing to become a party must file a motion to intervene. Copies of this filing are on file with the Commission and are available for public inspection.

David P. Boergers,
Secretary.

[FR Doc. 00-21602 Filed 8-23-00; 8:45 am]

BILLING CODE 6717-01-M